FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012153.

Title: NYK/HLAG Vessel Sharing Agreement.

Parties: Nippon Yusen Kaisha and Hapag-Lloyd AG.

Filing Party: Patricia M. O'Neill, Esq.; NYK Line (North America) Inc.; 300 Lighting Way, 5th Floor; Secaucus, NJ 07094.

Synopsis: The agreement authorizes the parties to share vessel space in the trade between U.S. West Coast ports and ports on the West Coast of Mexico and Central America. The parties requested expedited review.

Agreement No.: 012154.

Title: APL/Hamburg Sud Space Charter Agreement.

Parties: American President Lines, Ltd., APL Co. Pte Ltd., and Hamburg Sud KG.

Filing Party: Eric C. Jeffrey, Esq.; Goodwin Proctor LLP; 901 New York Ave. NW; Washington, DC 20001.

Synopsis: The agreement authorizes APL to charter space to Hamburg Sud in the trade from Asia to the U.S. Pacific Northwest.

By Order of the Federal Maritime Commission.
Dated: January 27, 2012.
Karen V. Gregory,
Secretary.

[FR Doc. 2012-2178 Filed 1-31-12; 8:45 am]

BILLING CODE 6730-01-P